DEPARTMENT OF ENERGY

Federal Energy Regulatory Commission

[Docket No. DI13-8-000]

Alaska Electric Light and Power Company; Notice of Declaration of Intention and Soliciting Comments, Protests, and/or Motions To Intervene

Take notice that the following application has been filed with the Commission and is available for public inspection:

a. Application Type: Declaration of Intention.

b. Docket No: DI13-8-000.

c. Date Filed: June 12, 2013.

d. Applicant: Alaska Electric Light and Power Company.

e. Name of Project: Sheep Creek Hydroelectric Project.

f. Location: The proposed Sheep Creek Hydroelectric Project will be located on Sheep Creek, near the City and Borough of Juneau, Alaska, affecting T. 041S, R. 68E, Copper River Median and T. 042S, R. 68E, Copper River Median.

g. Filed Pursuant to: Section 23(b)(1) of the Federal Power Act, 16 U.S.C. 817(b).

h. Applicant Contact: Scott Willis, Vice President Generation, Alaska Electric Light and Power Company, 5601 Tonsgard Court, Juneau, AK 99801; Telephone: (907) 463-6396; Fax: (907) 463-4833; Email address: Scott.Willis@aelp.commailto:mpdpe@aol.com.

i. FERC Contact: Any questions on this notice should be addressed to Ashish Desai, (202) 502-8370, or Email address: Ashish.Desai@ferc.gov.

j. Deadline for filing comments, motions to intervene, and protests, is 30 days from the issuance date of this notice by the Commission. The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number (DI13-8-000). For more information on how to submit these types of filings, please go to the Commission's Web site located at http://www.ferc.gov/filing-comments.asp.

Please include the docket number (DI13-8-000) on any comments, protests, and/or motions filed.

k. Description of Project: The Sheep Creek Hydroelectric Project will consist of: (1) A 10-foot-high, 75-foot-long concrete diversion dam at an elevation of 620 feet above mean sea level; (2) an overflow spillway; (3) a 4,750-foot-long, 36-inch-diameter penstock; (4) a powerhouse containing a single, 3.3-megawatt generating unit; (5) a tailrace that would discharge directly into Sheep Creek; (6) a switchyard, located adjacent to the powerhouse, consisting of a single 3.5-megavolt-ampere transformer to adjust voltage to 23 kilovolts; and (7) appurtenant facilities.

When a Declaration of Intention is filed with the Federal Energy Regulatory Commission, the Federal Power Act requires the Commission to investigate and determine if the project would affect the interests of interstate or foreign commerce. The Commission also determines whether or not the project: (1) Would be located on a navigable waterway; (2) would occupy or affect public lands or reservations of the United States; (3) would utilize surplus water or water power from a government dam; or (4) if applicable, has involved or would involve any construction subsequent to 1935 that may have increased or would increase the project's reservoir, head or generating capacity, or have otherwise significantly modified the project's pre-1935 design or operation.

l. Locations of the Application: Copies of this filing are on file with the Commission and are available for public inspection. This filing may be viewed on the Web at http://www.ferc.gov using the “eLibrary” link. Enter the Docket number excluding the last three digits in the docket number field to access the document. You may also register online at http://www.ferc.gov/docs-filing/esubscription.asp to be notified via email of new filings and issuances related to this or other pending projects. For assistance, call 1-866-208-3676 or email FERCOlineSupport@ferc.gov for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must bear in all capital letters the title “COMMENTS”, “PROTESTS”, AND/OR “MOTIONS TO INTERVENE”, as applicable, and the Docket Number of the particular application to which the filing refers. A copy of any Motion to Intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Dated: February 3, 2014.
Kimberly D. Bose,
Secretary.

[FR Doc. 2014-02736 Filed 2-7-14; 8:45 am]

BILLING CODE 6717-01-P